DEPARTMENT OF THE INTERIOR

Bureau of Land Management

[LLNVS03100 L51010000.ER0000 LVRWF09-F8590; 10-08807; 4500013732; TAS: 14X5017]

Notice of Availability of Final Environmental Impact Statement for the Solar Millennium, Amargosa Farm Road Solar Power Project, Nye County, NV

AGENCY: Bureau of Land Management, Interior.

ACTION: Notice of Availability.

SUMMARY: In accordance with the National Environmental Policy Act of 1969, as amended, and the Federal Land Policy and Management Act of 1976, as amended, the Bureau of Land Management (BLM) has prepared a Final Environmental Impact Statement (EIS) for the Amargosa Farm Road Solar Power Project, Nye County, Nevada, and by this notice is announcing its availability.

DATES: The BLM will not issue a final decision on the Amargosa Farm Road Solar Power Project for a minimum of 30 days from the date the Environmental Protection Agency publishes its notice in the Federal Register.

ADDRESSES: Copies of the Final EIS will be mailed to individuals, agencies, organizations, or companies who previously requested copies or who responded to the BLM on the Draft EIS. Printed copies or a compact disc of the Final EIS are available upon request from the BLM Southern Nevada District Office, 4701 N. Torrey Pines Drive, Las Vegas, Nevada 89130; phone (702) 515-5000; or e-mail at solar_millennium@blm.gov. Interested persons may also view the Final EIS at the following Web site: http://www.blm.gov/nv/st/en/prog/energy/fast-track_renewable.html. Copies of the Final EIS are available for public inspection at the following locations in Nevada:

• BLM Nevada State Office, 1340 Financial Boulevard, Reno.

• BLM Southern Nevada District Office, 4701 N. Torrey Pines Drive, Las Vegas.

FOR FURTHER INFORMATION CONTACT: Gregory Helseth, Renewable Energy Project Manager, by phone (702) 515-5173; in writing at the Bureau of Land Management, Southern Nevada District Office, Attn: Gregory Helseth, 4701 N. Torrey Pines Drive, Las Vegas, Nevada 89130; or e-mail Gregory_Helseth@blm.gov.

SUPPLEMENTARY INFORMATION: Solar Millennium applied to the BLM for a right-of-way on public lands to construct a concentrated solar thermal parabolic trough power plant facility approximately 80 miles northwest of Las Vegas, Nevada, in Nye County. The project site is located in Amargosa Valley south of Highway 95. The proposed project would encompass 4,350 acres of BLM-managed public lands, and is expected to operate for about 30 years. The proposed project would consist of two 242 megawatt dry-cooled power plants and solar fields equipped with solar thermal storage tanks capable of producing additional energy for 3.5 hours after sundown.

The solar field is highly modular and consists of “loops,” each consisting of four curved glass mirror collectors. A loop is 22 meters wide by 850 meters long. A solar field consists of 200 to 400 loops. The orientation of the collectors is north-south and the collectors track the sun from east to west during the day. The collector focuses the sun's direct beam radiation on a receiver tube. The row of collectors has a hydraulic drive unit with sensors to track the sun's path throughout the day. The solar energy heats a transfer fluid which cycles through a series of exchangers, ultimately generating electricity.

The project's proposed facility design includes the solar fields, power blocks, buildings, parking area, laydown area, stormwater retention pond, and evaporating ponds. A single overhead 230 kilovolt transmission line will connect the plant to the nearby Valley Electric substation. Additional elements of the project include access roads, a water pipeline, and a bioremediation area.

The Final EIS describes and analyzes the project's site-specific impacts on air quality, biological resources, cultural resources, visual resources, water resources, geological resources, paleontological resources, land use, noise, soils, nuisance, public health, socioeconomics, traffic and transportation, waste management, hazardous materials handling, worker safety, fire protection, facility design engineering, transmission system engineering, and transmission line safety.

Three alternatives were analyzed: (A) Wet-cooling technology; (B) Dry-cooling technology; and (C) No action alternative. Alternative A uses circulating water to condense low-pressure turbine generator exhaust steam in a shell and tube heat exchanger (condenser). Alternative B uses an air-cooled condenser that cools and condenses the low-pressure turbine generator exhaust steam using a large array of fans that force air over finned-tube heat exchangers arranged in an A-frame bundle configuration. Alternative B is the BLM's preferred alternative and Solar Millennium's proposed action. Alternative C is the no action alternative.

On March 19, 2010, the BLM published the Notice of Availability for the Draft EIS for this project in the Federal Register (75 FR 13301). The BLM held four public meetings and allowed the public to comment through email, mail, public meetings, and by phone. A total of 461 comments were received from individuals, organizations, and agencies.

These comments addressed concerns with water use mitigation, visual resource management, noise levels, and social/economic issues, particularly job opportunities. Concerns raised during the review are addressed and specific responses provided in the Final EIS.

Authority: 40 CFR 1506.6 and 1506.10.

Gayle Marrs-Smith,
Acting Manager Pahrump Field Office.

[FR Doc. 2010-25859 Filed 10-14-10; 8:45 am]

BILLING CODE 4310-HC-P